DEPARTMENT OF ENERGY

Federal Energy Regulatory Commission

[Docket No. EC04-90-000, et al.]

Portland General Electric Company, et al.; Electric Rate and Corporate Filings

April 7, 2004.

The following filings have been made with the Commission. The filings are listed in ascending order within each docket classification.

1. Portland General Electric Company and Oregon Electric Utility Company, LLC

[Docket No. EC04-90-000]

Take notice that on April 6, 2004, Portland General Electric Company (Portland General), an electric utility wholly owned by Enron Corp. (Enron) and Oregon Electric Utility Company, LLC (Oregon Electric), a newly formed Oregon limited liability company owned by funds managed by Texas Pacific Group, a private equity investment firm (collectively, the Applicants) filed with the Federal Energy Regulatory Commission pursuant to section 203 of the Federal Power Act for authorization of a transfer in control over Portland General that will result from the proposed sale by Enron to Oregon Electric of one hundred percent (100%) of Enron's ownership interest in Portland General.

Comment Date: April 27, 2004.

2. The Cincinnati Gas & Electric Company and PSI Energy, Inc.

[Docket Nos. ER96-2504-009 and ER96-2506-007]

Take notice that on April 1, 2004, the Cincinnati Gas & Electric Company and PSI Energy, Inc. (Cinergy Operating Companies) submitted corrections to their December 17, 2003, compliance filing amending the Cinergy Operating Companies' joint long-form market based rate tariff to incorporate the Commission's new market behavioral rules in accordance with the Commission's order issued November 17, 2003, in Docket Nos. EL01-118-000 and 001, 105 FERC ¶ 61,218 (2003).

Comment Date: April 22, 2004.

3. Old Dominion Electric Cooperative

[Docket No. ER97-4314-009]

Take notice that on April 1, 2004, Old Dominion Electric Cooperative (Old Dominion) submitted for filing a compliance filing in response to the Commission's order issued March 2, 2004, in Docket No. ER97-4314-008.

Old Dominion states that copies of this filing have been served (1) on each of Old Dominion's member cooperatives, (2) on the public service commissions in the Commonwealth of Virginia and the states of Delaware and Maryland and (3) on the official service list in Docket No. ER97-4314.

Comment Date: April 22, 2004.

4. Southern Company Services, Inc.

[Docket No. ER02-851-014]

Take notice that on March 17, 2004, Southern Company Services, Inc. submitted a Notification of Errata to Filing of Settlement, along with revised tariff sheets, to correct errors concerning the formula rate for calculating transmission charges under Southern Companies' Open Access Transmission Tariff.

Comment Date: April 15, 2004.

5. PJM Interconnection, L.L.C., PJM Interconnection, L.L.C., and Midwest Independent System Operator, Inc.

[Docket Nos. ER04-521-001 and ER04-375-002]

Take notice that on April 5, 2004, PJM Interconnection, L.L.C. (PJM) and the Midwest Independent System Operator, Inc. (Midwest ISO) tendered a letter advising the Commission that the North American Electric Reliability Council (NERC) has approved, without modification, the reliability plans of PJM and the Midwest ISO. The parties filed this letter to meet the condition in the Commission's orders to make a filing describing the outcome of NERC's review along with any conditions imposed by NERC or changes to the filing required by NERC's action. PJM and Midwest ISO request that the Commission accept this submission by April 27, 2004.

Comment Date: April 13, 2004.

6. Hartford Steam Company

[Docket No. ER04-582-002]

Take notice that on April 1, 2004, Hartford Steam Company (Hartford Steam) submitted an errata filing to correct the inadvertent omission, from its March 30, 2004, filing amending its Application For Acceptance of Initial Rate Schedule of Hartford Steam Company and Certain Waivers and Blanket Authorizations, which was filed on February 25, 2004, in Docket No. ER04-582-000.

Hartford Steam states that copies of this errata filing have also been served on the parties to this proceeding.

Comment Date: April 22, 2004.

7. American Transmission Company LLC

[Docket No. ER04-695-000]

Take notice that on March 31, 2004, American Transmission Company LLC (ATCLLC) tendered for filing a Distribution-Transmission Interconnection Agreement between ATCLLC and the City of Juneau, as local distribution company. ATCLLC requests an effective date of March 11, 2004.

Comment Date: April 22, 2004.

8. Tor Power, Inc.

[Docket No. ER04-698-000]

Take notice that on April 1, 2004, Tor Power, LLC (Tor) petitioned the Commission for acceptance of Tor's FERC Rate Schedule No. 1; the granting of certain blanket approvals, including the authority to sell electricity at market-based rates; and the waiver of certain Commission regulations. Tor states that it intends to engage in wholesale electric power and energy purchases and sales as a marketer and that it is not in the business of generating or transmitting electric power.

Comment Date: April 22, 2004.

9. Inland Pacific Resources Inc.

[Docket No. ER04-705-000]

Take notice that on April 2, 2004, Inland Pacific Resources Inc., (IPR), a subsidiary of Terasen Gas Inc. (Terasen) (formerly known as BC Gas Inc.), tendered for filing a Notice of Cancellation of its FERC Electric Rate Schedule No. 1. Terasen Gas requests an effective date of March 1, 2004.

Comment Date: April 23, 2004.

10. Dynegy Power Marketing, Inc.

[Docket No. ER04-711-000]

Take notice that on April 2, 2004, Dynegy Power Marketing, Inc. (DYPM) submitted for filing Rate Schedule FERC No.4, which is a market-based Power Purchase Agreement (the Interim PPA) between DYPM and its affiliate, Illinois Power Company (Illinois Power). DYPM states that the Interim PPA will go into effect only if the proposed sale of Illinois Power to Ameren Corporation (Ameren) in Docket No. EC04-81-000 is not completed by December 31, 2004, and will remain in effect until the earlier of the date the sale of Illinois Power is consummated or December 31, 2006 (the date of the expiration of the retail rate freeze in effect in the State of Illinois). DYPM requested that the Interim PPA be made effective as of January 1, 2005.

Comment Date: April 23, 2004.

11. Virginia Electric and Power Company

[Docket No. ER04-712-000]

Take notice that on April 2, 2004, Virginia Electric and Power Company, doing business as Dominion Virginia Power, tendered for filing tariff sheets in Virginia Electric and Power Company's FERC Electric Tariff, Second Revised Volume No. 5 (OATT) that provide Backup Supply Service for Retail Transmission Customers in Schedule 10 and delete Attachment L containing the rates terms and conditions for transmission service and ancillary services under Dominion Virginia Power's Retail Access Pilot Program. Dominion Virginia Power requests waiver of the Commission's notice of filing requirements to allow the tariff sheets to become effective as of the date of the Virginia State Corporation Commission's (SCC) final order in Case No. PUE-2003-00118.

Dominion Virginia Power states that copies of the filing were served upon Dominion Virginia Power's customers under its OATT, the SCC and the North Carolina Utilities Commission.

Comment Date: April 23, 2004.

12. Florida Power & Light Company—New England Division

[Docket No. ER04-714-000]

Take notice that on April 1, 2004, Florida Power & Light Company—New England Divisions (FPL-NED), pursuant to section 205(c) of the Federal Power Act and section 35.13 of the Commission's regulations, tendered for filing its Open Access Transmission Tariff. FPL-NED states the purpose of this local network service tariff is to set forth the terms and conditions of local network service over FPL-NED's non-Pool Transmission Facilities located in the New England Power Pool (NEPOOL) control area, and to establish the rates for local network service.

Comment Date: April 22, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-856 Filed 4-14-04; 8:45 am]

BILLING CODE 6717-01-P